DEPARTMENT OF LABOR

Employment and Training Administration

[TA-W-53,471]

GE Automation Services, Inc., Greenville, SC; Notice of Termination of Investigation

Pursuant to section 221 of the Trade Act of 1974, an investigation was initiated on November 7, 2003 in response to a worker petition filed on behalf of workers at GE Automation Services, Inc., Greenville, South Carolina.

An active certification covering the petitioning group of workers is already in effect (TA-W-50,128). Consequently, further investigation in this case would serve no purpose, and the investigation has been terminated.

Signed in Washington, DC this 17th day of December 2003.
Richard Church,
Certifying Officer, Division of Trade Adjustment Assistance.

[FR Doc. 04-1001 Filed 1-15-04; 8:45 am]

BILLING CODE 4510-30-P